DEPARTMENT OF ENERGY

National Nuclear Security Administration

Extension of Scoping Period for the Notice of Intent to Prepare an Environmental Impact Statement for the Operation of a Biosafety Level 3 Facility at Los Alamos National Laboratory, Los Alamos, NM

Summary: The National Nuclear Security Administration (NNSA), an agency within the U.S. Department of Energy (DOE), is extending the scoping period for the Environmental Impact Statement (EIS) on the Operation of a Biosafety Level 3 Facility at Los Alamos National Laboratory (LANL), Los Alamos, New Mexico.

Dates: The scoping period for the EIS is extended from December 29, 2005, to January 17, 2006. Comments received after that date will be considered to the extent practicable.

Addresses: Written comments or suggestions concerning the scope of the Biosafety Level 3 Facility (BSL-3) EIS or requests for more information on the EIS and public scoping process may be directed to: Ms. Lisa Cummings, EIS Document Manager, U.S. Department of Energy, National Nuclear Security Administration, Office of Los Alamos Site Operations, 528 35th Street, Los Alamos, New Mexico 87544; facsimile at (505) 665-4873; or e-mail at lcummings@doeal.gov. A message may be left for Ms. Cummings at 1-866-506-2862.

For Further Information Contact: For information about the DOE NEPA process, please contact: Ms. Carol Borgstrom, Director, Office of NEPA Policy and Compliance (EH-42), U.S. Department of Energy, 1000 Independence Avenue, SW., Washington, DC 20585, (202) 586-4600, or leave a message at 1-800-472-2756.

Supplementary Information: Subsequent to issuing an Environmental Assessment and Finding of No Significant Impact in February 2002, NNSA constructed a BSL-3 Facility at LANL. The BSL-3 Facility has never been operated. On November 29, 2005 (70 FR 71490), NNSA issued an NOI to prepare an EIS for the proposed operation of the BSL-3 Facility. As originally announced in the Notice of Intent, DOE has conducted public scoping meetings on the EIS in Los Alamos, Santa Fe, and Española. The original public scoping period was to continue until December 29, 2005. However, in response to public comments and to ensure that the public has ample opportunity to provide comments, DOE is extending the public scoping period until January 17, 2006.

Issued in Washington, DC, on December 28, 2005.
Alice C. Williams,
NNSA NEPA Compliance Officer.

[FR Doc. 05-24689 Filed 12-29-05; 8:45 am]

BILLING CODE 6450-01-P